CONSUMER PRODUCT SAFETY COMMISSION

Sunshine Act Meetings

Time and Date: Wednesday, February 24, 2016, 10:00 a.m.-12:00 p.m.

Place: Room 837-C, Enter on the Fourth Floor, Bethesda Towers, 4330 East West Highway, Bethesda, Maryland.

Status: Commission Meeting—Open to the Public.

Matter to be Considered: Decisional Matters:

1. Fiscal Year 2016 Operating Plan

2. General Conformity Certificates for Adult Wearing Apparel

A live webcast of the Meeting can be viewed at www.cpsc.gov/live.

CONTACT PERSON FOR MORE INFORMATION: Todd A. Stevenson, Office of the Secretary, U.S. Consumer Product Safety Commission, 4330 East West Highway, Bethesda, MD 20814, (301) 504-7923.

Dated: February 16, 2016.
Todd A. Stevenson,
Secretariat.

[FR Doc. 2016-03561 Filed 2-17-16; 11:15 am]

BILLING CODE 6355-01-P